DEPARTMENT OF HEALTH AND HUMAN SERVICES

Centers for Disease Control and Prevention

Government-Owned Inventions; Availability for Licensing and Cooperative Research and Development Agreements (CRADAs)

AGENCY: Centers for Disease Control and Prevention (CDC), Technology Transfer Office, Department of Health and Human Services (HHS).

ACTION: Notice.

SUMMARY: The invention named in this notice is owned by agencies of the United States Government and is available for licensing in the United States (U.S.) in accordance with 35 U.S.C. 207, and is available for cooperative research and development agreements (CRADAs) in accordance with 15 U.S.C. 3710, to achieve expeditious commercialization of results of federally funded research and development. U.S. and foreign patent applications are expected to be filed in the near future to extend market coverage for U.S. companies and may also be available for licensing.

ADDRESSES: Licensing and CRADA information, and information related to the technology listed below, may be obtained by writing to Suzanne Seavello Shope, J.D., Technology Licensing and Marketing Scientist, Technology Transfer Office, Centers for Disease Control and Prevention (CDC), Mailstop K-79, 4770 Buford Highway, Atlanta, GA 30341, telephone (770) 488-8613; facsimile (770) 488-8615; or e-mail sshope@cdc.gov. A signed Confidential Disclosure Agreement (available under Forms at http://www.cdc.gov/tto) will be required to receive copies of unpublished patent applications and other information.

Occupational Safety

Air Sampler for Collecting Airborne Pollutants in a Micro Centrifuge Tube for Molecular Analysis

Occupational exposure to small particles, such as fungal spores, bacteria, dust, etc., is of concern in a number of places that exhibit air quality problems, for example, school buildings and agricultural settings. The conventional approach for assessing human exposure to bioaerosols has been to take samples using filters, impingers, or impactors and then perform laboratory analyses, which could be directly counting the organisms or indirectly counting their colony-forming units. While these methods provide reasonably adequate assessment in bioaerosol concentration, they are time-consuming and sometimes take days or even weeks to conduct the analysis. In addition, although the health consequence is evident, there has been difficulty in establishing exposure-response relationship because of the poor correlation between measured biomass and recorded health effect. Recent attention paid to indoor air quality, biological warfare and terrorist attacks has revealed a need for highly specific and sensitive techniques, such as immunoassays and polymerase chain reactions (PCR), for detecting a variety of air pollutants. However, there is a lack of sampling devices that could provide adequate sampling of airborne pollutants and match these advanced analytical techniques.

Researchers at NIOSH have evaluated sampling techniques matched to the analytical procedures used in PCR, immunoassays, and other procedures, and developed a personal sampler for collecting airborne pollutants. Preliminary data have demonstrated an excellent aspiration and collection efficiency for the sampler. It is the intent that use of this sampler would solve the technical compatibility problem between sampling and analyzing as well as allow sample analysis without the need for sample extraction which is required by most current air sampling methods. In turn, the whole scheme of sampling and analysis would help enhance the assessment of exposure to airborne pollutants.

Inventors: The-hsun “Bean” Chen et al.

U.S. Patent Application SN: Not yet filed.

(CDC Ref. #: I-020-03).

Dated: August 25, 2003.
Joseph R. Carter,
Deputy Chief Operating Officer, Centers for Disease Control and Prevention (CDC).

[FR Doc. 03-22100 Filed 8-28-03; 8:45 am]

BILLING CODE 4163-18-P